DEPARTMENT OF STATE

[Delegation of Authority 304]

Delegation of Duties, Functions, and Responsibilities Vested in the Director General of the Foreign Service and Director of Human Resources

By virtue of the authority vested in me as Director General of the Foreign Service and Director of Human Resources, and to the extent authorized by law, I hereby delegate the duties, functions, and authorities vested in me as Director General of the Foreign Service and Human Resources, to my Principal Deputy Steven A. Browning.

This delegation does not include the authorities vested in me by Delegation 151 (related to my consultative role in connection with certain disputes between a labor organization and United States Forces), nor does it include any other duties, functions, and responsibilities required by law to be exercised by other authority. Notwithstanding this delegation, the functions and authorities delegated herein may also be exercised by the Secretary, the Deputy Secretary, the Deputy Secretary for Management and Resources, the Under Secretary for Management, and me.

This delegation will terminate upon the subsequent appointment of a Director General of the Foreign Service and Director of Human Resources, or sooner if revoked by competent authority.

Dated: December 9, 2011.
Nancy J. Powell,
Director General of the Foreign Service and Director of Human Resources.

[FR Doc. 2011-32421 Filed 12-16-11; 8:45 am]

BILLING CODE 4710-35-P